DEPARTMENT OF COMMERCE

National Oceanic and Atmospheric Administration

Availability of Seats for the Olympic Coast National Marine Sanctuary Advisory Council

AGENCY: National Marine Sanctuary Program (NMSP), National Ocean Service (NOS), National Oceanic and Atmospheric Administration, Department of Commerce (DOC).

ACTION: Notice and request for applications.

SUMMARY: The Olympic Coast National Marine Sanctuary (OCNMS) is seeking applicants for the following vacant seats on its Sanctuary Advisory Council (Council): The Marine Business/Ports/Industry seat and the Fishing seat. Applicants are chosen based upon their particular expertise and experience in relation to the seat for which they are applying; community and professional affiliations; philosophy regarding the conservation and management of marine resources; and the length of residence or experience in the area affected by the Sanctuary. Applicants who are chosen as members should expect to serve three-year terms, pursuant to the Council's Charter.

DATES: Applications are due by December 29, 2000.

ADDRESSES: Application kits may be obtained by from Andrew Palmer at 138 W. First St., Port Angles, WA 98362-2600. completed applications should be sent to the same address.

FOR FURTHER INFORMATION CONTACT: Andrew Palmer at (360) 467-6622, ex. 30, or email at Andrew.Palmer@noaa.gov.

SUPPLEMENTARY INFORMATION: The OCNMS Advisory Council was originally established in August 1995 and has a broad representation consisting of 19 members. The Council represents the coordination link between the Sanctuary and the state and federal management agencies, Native American tribes, researchers, educators, policy makers, and other various groups that help to focus efforts for management and protection of natural and cultural resources of the Olympic Coast National Marine Sanctuary.

The Council functions in an advisory capacity to the Sanctuary Superintendent and is instrumental in helping produce annual operating plans and reports by identifying education, outreach, research, long-term monitoring, resource protection and revenue enhancement priorities. The Council works in concert with the Sanctuary Superintendent by keeping him or her informed about issues of concern throughout the Sanctuary, offering recommendations on specific issues, and aiding the Superintendent in achieving the goals of the Sanctuary program.

Authority: 16 U.S.C. Section 1431 et seq.

(Federal Domestic Assistance Catalog Number 11.429 Marine Sanctuary Program)

Dated: December 13, 2000.
Margaret A. Davidson,
Acting Assistant Administrator for Ocean and Coastal Zone Management.

[FR Doc. 00-32303 Filed 12-18-00; 8:45 am]

BILLING CODE 3510-08-M